DEPARTMENT OF HEALTH AND HUMAN SERVICES

National Institutes of Health

National Institute of Mental Health; Amended Notice of Meeting

Notice is hereby given of a change in the meeting of the Mental Health Services in MH Specialty Settings, October 7, 2008, 8:30 am to October 7, 2008, 5 p.m., Hilton Crystal City, 2399 Jefferson Davis Hwy, Arlington, VA 22202 which was published in the Federal Register on August 15, 2008, 73 FR 47958.

The meeting location has been changed to the Fairmont Hotel, 2401 M Street, NW., Washington, DC 20037. The meeting date and times remain the same. The meeting is closed to the public.

Dated: September 2, 2008.
Jennifer Spaeth,
Director, Office of Federal Advisory Committee Policy.

[FR Doc. E8-20902 Filed 9-8-08; 8:45 am]

BILLING CODE 4140-01-P